DEPARTMENT OF AGRICULTURE

Agricultural Marketing Service

[Docket No. TB-02-04]

National Advisory Committee for Tobacco Inspection Services; Open Meeting

AGENCY: Agricultural Marketing Service, USDA.

ACTION: Notice of advisory committee meeting.

SUMMARY: In accordance with the Federal Advisory Committee Act (5 U.S.C. App.) announcement is made of a forthcoming meeting of the National Advisory Committee for Tobacco Inspection Services.

DATES: April 16, 2002, 9:00 a.m.

ADDRESSES: The meeting will be held at the Hilton Alexandria Old Town, 1767 King Street, Alexandria, Virginia 22314.

FOR FURTHER INFORMATION CONTACT: John P. Duncan III, Deputy Administrator, Tobacco Programs, AMS, USDA, STOP 0280, 1400 Independence Avenue, SW, Washington, DC 20250-0280, Telephone number (202) 205-0567 or fax (202) 205-0235.

SUPPLEMENTARY INFORMATION: The purpose of the meeting is to review various regulations issued pursuant to the Tobacco Inspection Act (7 U.S.C. 511 et seq.), and discuss the level of service (number of sets of graders) AMS will provide for the 2002-2003 tobacco marketing season. The Committee will recommend the desired level of service to be provided to producers by AMS and an appropriate fee structure to fund the recommended services for the 2002-2003 selling season.

The meeting is open to the public. Persons, other than members, who wish to address the Committee at the meeting should contact John P. Duncan III, Deputy Administrator, Tobacco Programs, AMS, USDA, STOP 0280, 1400 Independence Avenue, SW, Washington, DC 20250-0280, prior to the meeting. Written statements may be submitted to the Committee before, at or after the meeting. If you need any accommodations to participate in the meeting, please contact the Tobacco Programs at (202) 205-0567 by April 10, 2002, and inform us of your needs.

Dated: April 1, 2002.
A.J. Yates,
Administrator, Agricultural Marketing Service.

[FR Doc. 02-8167 Filed 4-1-02; 3:05 pm]

BILLING CODE 3410-02-P